DEPARTMENT OF ENERGY

Federal Energy Regulatory Commission

Combined Notice of Filings #2

Take notice that the Commission received the following electric rate filings:

Docket Numbers: ER10-2532-008; ER10-2534-002; ER10-2535-003.

Applicants: Crescent Ridge LLC, Kumeyaay Wind LLC, Mendota Hills, LLC.

Description: Notice of Non-Material Change in Status of Crescent Ridge LLC, et. al.

Filed Date: 1/18/17.

Accession Number: 20170118-5142.

Comments Due: 5 p.m. ET 2/8/17.

Docket Numbers: ER13-764-016; ER14-1927-004; ER12-2498-016; ER12-2499-016; ER14-1776-007; ER12-1566-010; ER14-1548-009; ER11-3987-011; ER17-382-001; ER17-383-001; ER17-384-001; ER12-199-013.

Applicants: CED White River Solar, LLC, CED White River Solar 2, LLC, Alpaugh 50, LLC, Alpaugh North, LLC, Broken Bow Wind II, LLC, Copper Mountain Solar 2, LLC, Copper Mountain Solar 3, LLC, Mesquite Solar 1, LLC, CED Ducor Solar 1, LLC, CED Ducor Solar 2, LLC, CED Ducor Solar 3, LLC, Coram California Development, L.P.

Description: Notice of Non-Material Change in Status of the Consolidated Edison, Inc. subsidiaries.

Filed Date: 1/17/17.

Accession Number: 20170117-5316.

Comments Due: 5 p.m. ET 2/7/17.

Docket Numbers: ER15-2356-001.

Applicants: Southwest Power Pool, Inc.

Description: Compliance filing: MidAmerican Energy Company Att AH SA Substitute 2725R1 to be effective 10/1/2015.

Filed Date: 1/18/17.

Accession Number: 20170118-5052.

Comments Due: 5 p.m. ET 2/8/17.

Docket Numbers: ER17-434-001.

Applicants: Alcoa Power Generating Inc.

Description: Tariff Amendment: Supplement to Executed TSA for Native Load Customer—APGI (Long Sault) & Alcoa to be effective 11/1/2016.

Filed Date: 1/18/17.

Accession Number: 20170118-5091.

Comments Due: 5 p.m. ET 2/8/17.

Docket Numbers: ER17-435-001.

Applicants: Alcoa Power Generating Inc.

Description: Tariff Amendment: Supplement to Executed TSA for Native Load Customer—APGI (Tapoco) & Arconic to be effective 11/1/2016.

Filed Date: 1/18/17.

Accession Number: 20170118-5093.

Comments Due: 5 p.m. ET 2/8/17.

Docket Numbers: ER17-438-001.

Applicants: Alcoa Power Generating Inc.

Description: Tariff Amendment: Supp to Executed TSA for Native Load Customer—APGI (Long Sault) & Arconic to be effective 11/1/2016.

Filed Date: 1/18/17.

Accession Number: 20170118-5092.

Comments Due: 5 p.m. ET 2/8/17.

Docket Numbers: ER17-644-001.

Applicants: Talen Energy Marketing, LLC.

Description: Tariff Amendment: Amended Market-Based Rate Tariff to be effective 3/20/2017.

Filed Date: 1/18/17.

Accession Number: 20170118-5086.

Comments Due: 5 p.m. ET 2/8/17.

Docket Numbers: ER17-645-001.

Applicants: Talen Montana, LLC.

Description: Tariff Amendment: Amended Revised Market-Base Rate Tariff to be effective 3/20/2017.

Filed Date: 1/18/17.

Accession Number: 20170118-5094.

Comments Due: 5 p.m. ET 2/8/17.

Take notice that the Commission received the following public utility holding company filings:

Docket Numbers: PH17-6-000.

Applicants: Consolidated Edison, Inc.

Description: Consolidated Edison, Inc. submits FERC 65-B Material Change in Facts of Waiver Notification.

Filed Date: 1/17/17.

Accession Number: 20170117-5318.

Comments Due: 5 p.m. ET 2/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2017.
Nathaniel J. Davis, Sr.,
Deputy Secretary.

[FR Doc. 2017-01639 Filed 1-24-17; 8:45 am]

BILLING CODE 6717-01-P